DEPARTMENT OF TRANSPORTATION

Federal Aviation Administration

14 CFR Part 71

[Docket No. FAA-2005-23361; Airspace Docket No. 05-ANM-17]

Revision of Class E Airspace; Pinedale, WY

AGENCY: Federal Aviation Administration (FAA), DOT.

ACTION: Final rule.

SUMMARY: This final rule will revise the Class E airspace at Pinedale, WY. Additional controlled airspace is necessary to accommodate aircraft executing a new Area Navigation (RNAV) Global Positioning System (GPS) approach procedure at Pinedale/Ralph Wenz Field. This action will improve the safety of Instrument Flight Rules (IFR) aircraft executing this new procedure at Pinedale/Ralph Wenz Field, Pinedale, WY.

DATES: Effective Date: 0901 UTC, September 28, 2006.

FOR FURTHER INFORMATION CONTACT: Ed Haeseker, Federal Aviation Administration, Western En Route and Oceanic Area Office, Airspace Branch, 1601 Lind Avenue SW., Renton, WA, 98055-4056; telephone (425) 227-2527.

SUPPLEMENTARY INFORMATION:

History

On February 27, 2006, the FAA published in the Federal Register a notice of proposed rulemaking to revise Class E airspace at Pinedale, WY, (71 FR 9740). This action would improve the safety of Instrument Flight Rules (IFR) aircraft executing this new procedure at Pinedale/Ralph Wenz Field, Pinedale, WY. Interested parties were invited to participate in this rulemaking effort by submitting written comments on the proposal to the FAA. No comments were received. The NPRM described the Wenz NDB bearings “to” the facility instead of “from” the facility, which is standard practice. This rule makes an editorial change to describe the bearings from the NDB. Except for this editorial change, this rule is the same as proposed in the NPRM.

Class E airspace designations are published in paragraph 6002 of FAA Order 7400.9O, effective September 15, 2006, which is incorporated by reference in 14 CFR 71.1. The Class E airspace designations listed in this document will be published subsequently in that Order.

The Rule

This action amends Title 14 Code of Federal Regulations (14 CFR) part 71 by revising Class E airspace at Pinedale, WY. Additional controlled airspace is necessary to accommodate IFR aircraft executing a new RNAV (GPS) approach procedure at Pinedale/Ralph Wenz Field, Pinedale, WY.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9O, Airspace Designations and Reporting Points, updated yearly, effective September 15, 2006, is amended as follows:

Paragraph 6005 Class E Airspace areas extending upward from 700 feet or more above the surface of the earth.

* * * * *

ANM WY E5 Pinedale, WY [Revised]

Pinedale/Ralph Wenz Field, WY

(Lat. 42°47′44″ N., long. 109°48′26″ W.)

Big Piney VOR/DME

(Lat. 42°34′46″ N., long. 110°06′33″ W.)

Wenz NDB

(Lat. 42°47′50″ N., long. 109°48′13″ W.)

That airspace extending upward from 700 feet above the surface within 4.3 miles each side of a direct line between the Big Piney VOR/DME and the Wenz NDB extending from the VOR/DME to a point 4.3 miles northeast of the NDB, and within 3.1 miles each side of the 143° bearing and 4.0 miles each side of the 123° bearing from the Wenz NDB extending to 13 miles southeast of the NDB, and 4.0 miles either side of the 303° bearing from the Wenz NDB extending to 10 miles northwest of the NDB; that airspace extending upward from 1,200 feet above the surface beginning at Lat. 43°00′00″ N., long. 110°30′00″ W., thence east to Lat. 43°00′00″ N., long. 109°45′00″ W., thence southeast to Lat. 42°30′00″ N., long. 109°11′00″ W., thence southwest to Lat. 42°00′00″ N., long. 109°50′00″ W., thence west to Lat. 42°00′00″ N., long. 110°00′00″ W., thence northwest to point of beginning.

* * * * *

Issued in Seattle, Washington, on July 13, 2006.
Clark Desing,
System Support, Western Service Area.

[FR Doc. E6-11648 Filed 7-21-06; 8:45 am]

BILLING CODE 4910-13-P